OFFICE OF THE UNITED STATES TRADE REPRESENTATIVE

[Docket No. USTR-2014-0020]

2014 Special 301 Out-of-Cycle Review of India

AGENCY: Office of the United States Trade Representative.

ACTION: Notice of Request for Public Comments.

SUMMARY: In the 2014 Special 301 Report, the Office of the United States Trade Representative (USTR) announced that, in order to assess progress on engagement with the Government of India on intellectual property rights (IPR) issues, an Out-of-Cycle Review (OCR) would be conducted for India. USTR requests written submissions from the public concerning information, views, acts, policies, or practices relevant to evaluating the Government of India's engagement on IPR issues of concern, in particular those identified in the 2014 Special 301 Report. The 2014 Special 301 Report is available at www.ustr.gov.

Deadlines:

Friday, October 31, 2014—Deadline for the public, except foreign governments, to submit written comments.

Friday, November 7, 2014—Deadline for foreign governments to submit written comments.

ADDRESSES: All written comments should be filed electronically via www.regulations.gov, Docket Number USTR-2014-0020, and be consistent with the requirements set forth below. Please specify “2014 Special 301 Out-of-Cycle Review of India” in the “Type Comment” field.

FOR FURTHER INFORMATION CONTACT: Susan Wilson, Director for Intellectual Property and Innovation, Office of the United States Trade Representative, at Special301@ustr.eop.gov. Information on the Special 301 Review is available at www.ustr.gov.

SUPPLEMENTARY INFORMATION:

1. Background

Section 182 of the Trade Act requires USTR to identify countries that deny adequate and effective protection of IPR or deny fair and equitable market access to U.S. persons who rely on intellectual property protection. The provisions of Section 182 are commonly referred to as the “Special 301” provisions of the Trade Act.

Those countries that have the most onerous or egregious acts, policies, or practices and whose acts, policies, or practices have the greatest adverse impact (actual or potential) on relevant U.S. products are to be identified as Priority Foreign Countries. In addition, USTR has created a “Priority Watch List” and a “Watch List” under Special 301 provisions. Placement of a trading partner on the Priority Watch List or Watch List indicates that particular problems exist in that country with respect to IPR protection, enforcement, or market access for persons relying on intellectual property.

In the 2014 Special 301 Report, USTR placed India on the Priority Watch List and noted that it would conduct an OCR of India focusing in particular on assessing progress made in establishing and building effective, meaningful, and constructive engagement with the Government of India on IPR issues of concern. An OCR is a tool that USTR uses to encourage progress on IPR issues of concern and can provide an opportunity for heightened engagement with a trading partner to address and remedy such issues.

2. Written Comments

a. Requirements for Written Comments

To facilitate the review, written comments should be as detailed as possible and provide information and views relevant to assessing the quality of the Government of India's engagement on IPR issues of concern, in particular those issues identified in the 2014 Special 301 Report, including ideas on how the U.S. and Indian governments can enhance bilateral engagement, recommendations regarding the focus of such engagement, as well as the quality of engagement interested parties have experienced with the Government of India on IPR issues. Comments should focus on the time period since issuance of the 2014 Special 301 Report in April. To the extent relevant, USTR requests that comments include specific references to laws, regulations, policy statements, or other measures that should factor in the review and describe engagement interested parties have had with the Government of India on IPR issues of concern.

b. Instructions for Submitting Comments

Comments must be in English. To ensure the timely receipt and consideration of comments, USTR strongly encourages commenters to submit comments electronically, using the www.regulations.gov Web site. To submit comments via www.regulations.gov, enter Docket Number USTR-2014-0020 on the home page and click “Search.” The site will provide a search-results page listing all documents associated with this docket. Find the reference to this notice and click on the link entitled “Comment Now!.” For further information on using the www.regulations.gov Web site, please consult the resources provided on the site by clicking on “How to use Regulations.gov” at the bottom of the home page under “Help.”

The www.regulations.gov Web site allows users to provide comments by filling in a “Type Comment” field, or by attaching a document using an “Upload File” field. USTR prefers that comments be provided in an attached document. If a document is attached, please type “2014 Out-of-Cycle Review of India” in the “Type Comment” field. USTR prefers submissions in Microsoft Word (.doc) or Adobe Acrobat (.pdf) format. If the submission is in another file format, please indicate the name of the software application in the “Type Comment” field. File names should reflect the name of the person or entity submitting the comments. Please do not attach separate cover letters to electronic submissions; rather, include any information that might appear in a cover letter in the comments themselves. Similarly, to the extent possible, please include any exhibits, annexes, or other attachments in the same file as the comment itself, rather than submitting them as separate files.

A person requesting that information contained in a comment submitted by that person be treated as confidential business information must certify that such information is business confidential and would not customarily be released to the public by the submitter. In the document, confidential business information must clearly be designated as such; the submission must be marked “BUSINESS CONFIDENTIAL” on the cover page and each succeeding page, and the submission should clearly indicate, via brackets, highlighting, or other means, the specific information that is business confidential. Additionally, the submitter should type “Business Confidential 2014 Out-of-Cycle Review of India” in the “Type Comment” field. Anyone submitting a comment containing business confidential information must also submit, as a separate submission, a non-business confidential version of the submission, indicating where the business confidential information has been redacted. The filenames of both documents should reflect their status—“BC” for the business confidential version and “P” for the public version. The non-business confidential version will be placed in the docket at www.regulations.gov and be available for public inspection.

As noted, USTR strongly urges commenters to submit comments through www.regulations.gov. Any alternative arrangements must be made in advance of transmitting a comment and in advance of the relevant deadline by contacting USTR at Special301@ustr.eop.gov.

3. Inspection of Comments

Comments received will be placed in the docket and open to public inspection pursuant to 15 CFR 2006.13, except business confidential information exempt from public inspection in accordance with 15 CFR 2006.15. Comments may be viewed free of charge by visiting www.regulations.gov and entering Docket Number USTR-2014-0020 in the “Search” field on the home page.

Susan F. Wilson,
Director for Intellectual Property and Innovation.

[FR Doc. 2014-24309 Filed 10-10-14; 8:45 am]

BILLING CODE 3290-F5-P